DEPARTMENT OF LABOR

Employment and Training Administration

[TA-W-40, 216]

Paul Flagg Leather Company, Sheboygan, WI; Notice of Revised Determination on Reconsideration

By application of May 1, 2002, the company requested administrative reconsideration regarding the Department's Negative Determination Regarding Eligibility to Apply for Worker Adjustment Assistance, applicable to the workers of the subject firm.

The initial investigation resulted in a negative determination, based on the finding that imports of tanned cowhides (leather) did not contribute importantly to worker separations at the subject plant. The denial notice was signed on April 12, 2002 and published in the Federal Register on May 2, 2002 (67 FR 22114).

The company requested reconsideration based on various factors relevant and not relevant to meeting the eligibility requirement under TAA. However, further review of the Department of Labor's survey conducted during the initial investigation shows that a major customer increased their imports of tanned cowhides, while decreasing their purchases from the subject firm during the relevant period.

Conclusion

After careful consideration of the new facts obtained on reconsideration, it is concluded that increased imports of tanned cowhides, contributed importantly to the decline in production and to the total or partial separation of workers at Paul Flagg Leather Company, Sheboygan, Wisconsin. In accordance with the provisions of the Act, I make the following revised determination:

“All workers of Paul Flagg Leather Company, Sheboygan, Wisconsin, who became totally or partially separated from employment on or after October 3, 2000 through two years from the date of this certification, are eligible to apply for adjustment assistance under Section 223 of the Trade Act of 1974.”

Signed in Washington, DC, this 31st day of May, 2002.
Edward A. Tomchick,
Director, Division of Trade Adjustment Assistance.

[FR Doc. 02-14796 Filed 6-11-02; 8:45 am]

BILLING CODE 4510-30-P